DEPARTMENT OF THE INTERIOR

National Park Service

Native American Graves Protection and Repatriation Review Committee Findings and Recommendations Regarding a Dispute Between Hui Malama I Na Kupuna O Hawai'i Nei and Hawaii Volcanoes National Park

AGENCY: National Park Service, Interior.

ACTION: Notice.

SUMMARY: At a March 13-15, 2005, public meeting in Honolulu, HI, the Native American Graves Protection and Repatriation Review Committee (Review Committee) considered a dispute between Hui Malama I Na Kupuna O Hawai'i Nei and Hawaii Volcanoes National Park. The dispute focused on whether five items in the possession of the park are subject to repatriation under provisions of the Native American Graves Protection and Repatriation Act. The Review Committee recommended that the park initiate aggressive consultation with all claimants and other interested parties and complete the repatriation process by the end of 2005.

SUPPLEMENTARY INFORMATION: On October 20, 1993, the National Park Service completed a Servicewide summary of collections that may include unassociated funerary objects, sacred objects, and objects of cultural patrimony. Listed under Hawaii Volcanoes National Park were five items attributed to Forbes Cave, Kawaihae, HI, including one wood statue, one konane board, one bone tool, one gourd vessel, and one bone button.

On June 28, 1996, Hawaii Volcanoes National Park completed its inventory of Native American human remains and associated funerary objects. The park's inventory included one cutting tool made of human clavicle with a shark's tooth said to have been collected from Forbes Cave, Kawaihae, HI.

On November 19, 1999, Hui Malama I Na Kupuna O Hawai'i Nei filed a claim to repatriate all items removed from Forbes Cave in the possession of Hawaii Volcanoes National Park.

On November 23, 2004, Hui Malama I Na Kupuna O Hawai'i Nei requested the assistance of the Review Committee in resolving its dispute with Hawaii Volcanoes National Park. The request also includes an allegation that the park failed to comply with the repatriation provisions of the Act.

On January 24, 2005, the Review Committee's designated Federal officer acknowledged receipt of the November 23, 2004, request and identified questions as to whether five objects from Forbes Cave are funerary objects culturally affiliated with one or more Native Hawaiian organizations as issues of fact with which the Review Committee might wish to assist in resolving. The allegation of failure to comply was referred to the Washington Office of the National Park Service for administrative review.

On February 18, 2005, the Review Committee's designated Federal officer notified Hui Malama I Na Kupuna O Hawai'i Nei and Hawaii Volcanoes National Park that the Review Committee had agreed to assist in the resolution of the dispute at its next meeting.

On March 1, 2005, the Review Committee's designated Federal officer sent letters to 18 claimants inviting them to provide information to the Review Committee: representative of Henry Auwae (deceased), representative of Edward Kanahele (deceased), Hannah Kane Reeves, Department of Hawaiian Home Lands, E Nana Pono, Hawaii Genealogy Society, Hawaii Island Burial Council, Kekumano Ohana, Keohokalole Ohana, Na Ali'i Lei Kawananakoa, Na Papa Kanaka O Pu'u Kohola, Nation of Hawai'i, Native Hawaiian Advisory Council, Office of Hawaiian Affairs, Puuhonua O Waimanalo, Royal Hawaiian Academy of Traditional Arts, State Council of Hawaiian Homestead Associations, and Van Horn Diamond Ohana.

FINDINGS AND RECOMMENDATIONS: On March 13-15, 2005, the Review Committee considered the dispute as presented by representatives of Hui Malama I Na Kupuna O Hawai'i Nei, Hawaii Volcanoes National Park, Department of Hawaiian Home Lands, Hawaii Genealogy Society, Kekumano Ohana, Na Ali'i Lei Kawananakoa, Na Papa Kanaka O Pu'u Kohola, Office of Hawaiian Affairs, Royal Hawaiian Academy of Traditional Arts, and Van Horn Diamond Ohana and made the following findings:

1. The park has been very slow in going through the NAGPRA process.

2. The number of potential claimants of the items has increased with the passage of time.

3. The Review Committee is encouraged that the park is now moving forward.

4. The Review Committee has chosen not to come to a finding as to whether the five objects are cultural items as defined by the statute and regulations.

5. The park has not done sufficient work to investigate right of possession.

6. The park needs to expand the involvement of Native Hawaiian participation and testimony.

The Review Committee recommends that:

1.Hawaii Volcanoes National Park initiate aggressive consultation with all claimants and other interested parties.

2. Hawaii Volcanoes National Park investigate the right of possession issue in light of territorial law in force at the time the objects were removed from the cave.

3. Hawaii Volcanoes National Park take steps to ensure that it completes the repatriation process by the end of 2005.

The National NAGPRA Program publishes this notice as part of its administrative and staff support for the Review Committee. The findings and recommendations are those of the Review Committee and do not necessarily represent the views of the Secretary of the Interior. The Secretary of the Interior has not taken a position on these matters.

Dated: May 20, 2005.
Rosita Worl,
Chair,
Native American Graves Protection and Repatriation Review Committee.

[FR Doc. 05-10795 Filed 5-31-05; 8:45 am]

BILLING CODE 4312-50-S